DEPARTMENT OF THE INTERIOR

Fish and Wildlife Service

Availability of a Habitat Conservation Plan and Receipt of an Application for an Incidental Take Permit for the Wiley Creek Unit, Linn County, OR

AGENCY: Fish and Wildlife Service, Interior.

ACTION: Notice of receipt of application.

SUMMARY: This notice advises the public that Mr. Alvin and Mrs. Marsha Seiber (applicants) have applied to the Fish and Wildlife Service (Service) for an incidental take permit pursuant to section 10(a)(1)(B) of the Endangered Species Act of 1973, as amended (Act). The application has been assigned permit number TE022715-0. The proposed permit would authorize the incidental take, in the form of habitat modification, of the northern spotted owl (Strix occidentalis caurina), federally listed as threatened. The permit term has not yet been defined by the applicants. The permit would address up to approximately 200 acres, which is the entirety of their property in Linn County, Oregon.

The Service announces the receipt of the applicant's incidental take permit application and the availability of the proposed Wiley Creek Unit Habitat Conservation Plan (Plan) and draft Implementation Agreement, which accompany the incidental take permit application, for public comment. The Plan describes the proposed project and the measures the applicant will undertake to mitigate for project impacts to the spotted owl. These measures and associated impacts are also described in the background and summary information that follow. The Service is presently reviewing our responsibilities for compliance under the National Environmental Policy Act (NEPA) and will announce the availability of any appropriate NEPA documents at a later date.

DATES: Written comments on the permit application and Plan should be received on or before March 20, 2000.

ADDRESSES: Individuals wishing copies of the permit application or copies of the full text of the Plan, should immediately contact the office and personnel listed below. Documents also will be available for public inspection, by appointment, during normal business hours at the address below. Comments regarding the permit application, Draft Implementation Agreement or the Plan should be addressed to State Supervisor, Fish and Wildlife Service, Oregon State Office, 2600 S.E. 98th Avenue, Suite 100, Portland, Oregon 97266. Please refer to permit number TE022715-0 when submitting comments.

FOR FURTHER INFORMATION CONTACT: Mr. Rich Szlemp, Fish and Wildlife Service, Oregon State Office, telephone (503) 231-6179.

SUPPLEMENTARY INFORMATION: Section 9 of the Act and federal regulation prohibits the “taking” of a species listed as endangered or threatened. However, the Service, under specific circumstances, may issue permits to “incidentally take” listed species, which is take that is incidental to, and not the purpose of, otherwise lawful activities. Regulations governing permits for threatened species are promulgated in 50 CFR 17.32. Regulations governing permits for endangered species are promulgated in 50 CFR 17.22.

Background

The applicants are proposing to harvest approximately 40 acres of mature second growth forest from a 200-acre parcel of land which contains a little over 150 acres of forest land. These 40 acres have been delineated by the Oregon Department of Forestry as a portion of an approximately 70-acre spotted owl core area under the Oregon Forest Practices Act (OFPA). The remaining approximately 30 acres are located immediately to the north on adjacent private property. The surrounding ownership primarily consists of private forest lands. There are a few scattered parcels of Federal forest lands within a radius of five miles of the property, with much larger contiguous Federal forest lands (Willamette National Forest) located about seven miles to the northeast. A spotted owl nest tree is located within about 300 feet of the northern portion of the property on adjacent private land. A pair of spotted owls was last documented using this site in 1996. Other federally listed species may also be affected by the proposed Plan. Steelhead salmon (Oncorhynchus mykiss), federally listed as threatened, are found in Little Wiley Creek within the property boundaries. The eastern portion of the harvest area encompasses both sides of Cedar Creek, which is a perennial fish-bearing stream that drains into Little Wiley Creek. No surveys have been conducted for bald eagles (Haliaeeus leucocephalus), which are also federally listed as threatened, but the Plan area does contain potential suitable bald eagle habitat.

The Wiley Creek Plan area contains forests that are generally second growth between 40-65 years old. The predominant species are Douglas-fir, silver fir, and western hemlock, with scattered western red cedar, big-leaf maple, and alder. The percent canopy coverage and relative density of trees varies widely throughout the Plan area. Most of the surrounding land is similar second growth, with many patches of clearcuts that are less than 20 years old.

The Wiley Creek Plan contains two alternatives: preferred and no action. Under the preferred alternative, the applicants would harvest 40 acres of mature second growth timber in the Plan area to the extent allowed by the OFPA rules. Under the no action alternative, the subject timber would be left standing. The applicants rejected the no action alternative because they believe it would deny them of all economically productive use of the subject timber.

The applicants propose the following minimization and mitigation measures:

a. Conduct harvest activities outside of the nesting season for the spotted owl (March 1—September 15), except for road building

b. Replant Douglas-fir, western red cedar, and/or western hemlock over the harvest units. As per OFPA Rules, this planting will take place within 12 months after completion of harvest.

c. Meet current OFPA Rules with regard to management of riparian areas.

d. Meet the current OFPA Rules to leave standing and unharvested, all snags and dead trees until they have fallen to the ground and rotted away except when they provide a safety hazard for the logging operation.

Summary of Service's Concerns and Recommendations

The Wiley Creek Plan was prepared without any technical assistance from the Service. The Service received the Plan and application on November 26, 1999. The Wiley Creek Plan lacks much of the biological analysis and information routinely provided by other applicants or developed by working together with the Service prior to submitting an incidental take permit application. For example, no information on the quality of the existing northern spotted owl habitat, current information on northern spotted owl survey efforts, or surrounding landscape was provided in the Plan. Information on the timber harvest or yarding methods was inadequate to determine effects to the listed species and the affected environment. Information on the effect of implementing the proposed minimization or mitigation measures was also lacking. Potential effects to steelhead were also not addressed.

Service employees visited the Plan area on January 25, 2000, to assess existing habitat conditions and to evaluate additional options to minimize and mitigate impacts to spotted owls. However, on February 4, 2000, the applicants' counsel informed the Services that there will be no changes in the Wiley Creek Plan. The applicants' counsel also requested this notice be published prior to February 15, 2000.

The Service has reviewed the Wiley Creek Plan and has some concerns with the adequacy of the minimization and mitigation measures. We specifically invite the public to provide comments on these measures proposed by the applicant. We also invite comment on potential alternative options. The Service believes that other practicable minimization and mitigation measures may exist that would provide the basis for reducing the net long-term adverse effects to owls by allowing for the regeneration of suitable nesting habitat conditions within a shorter time period than would result from the proposed harvest. These alternatives could also provide some increased opportunities for owl foraging and roosting immediately after the timber harvest, which would minimize and mitigate the incidental take of owls. Specifically, the Service wishes to receive comment on options that may include partial harvest of the proposed 40 acres that would provide some level of spotted owl habitat either immediately after harvest or within a given period of time after harvest. Additionally, we seek comments on the management of the remaining forested acreage on the applicant's property that would provide habitat conditions to mitigate for the loss of the 40 acres of forest proposed for clearcut harvest. Comments on alternatives should include discussion of time periods that would be appropriate to create or maintain spotted owl habitat to mitigate for any potential losses of suitable habitat under any suggested alternative. This information would assist the Service in addressing appropriate permit duration.

The impacts from the applicant's preferred alternative would reduce the likelihood of spotted owls nesting within the boundaries of the 70 acre core area due to the smaller remaining patch of habitat surrounded by recent clearcut timber harvests. The OFPA requires the leaving of two trees per acre with a minimum of 11 inches diameter at breast height per acre harvested. The location and size of actual leave trees has not been specified. Based upon the available size classes and numbers, these trees will not likely provide or contribute to any measurable spotted habitat immediately post-harvest. Except for some potential clumping of trees, and the riparian buffer areas, the remaining landscape would consist of a very open canopy that would not be conducive to owl nesting, roosting, or foraging. The Plan would leave a minimum 70-foot riparian buffer along Cedar Creek and a minimum 50-foot buffer along an unnamed tributary that enters into Cedar Creek. These narrow, treed corridors would not provide suitable forested habitat conditions for spotted owls.

This notice is provided pursuant to section 10(c) of the Act. The Service will evaluate the permit application, Plan, and comments submitted thereon to determine whether the application meets the requirements of section 10(a) of the Act. If it is determined that the requirements are met, a permit will be issued for the incidental take of the northern spotted owl. The final permit decision will not be made prior to ensuring compliance with NEPA.

Dated: February 10, 2000.
Anne Badgley,
Regional Director, Region 1, Portland, Oregon

[FR Doc. 00-3783 Filed 2-17-00; 8:45 am]

BILLING CODE 4310-55-P